OFFICE OF PERSONNEL MANAGEMENT

5 CFR Part 532

RIN 3206-AK91

Prevailing Rate Systems; Redefinition of the Adams-Denver, CO; Nonappropriated Fund Wage Area

AGENCY: Office of Personnel Management.

ACTION: Proposed rule with request for comments.

SUMMARY: The Office of Personnel Management is issuing a proposed rule that would remove Adams County, CO, from the Adams-Denver, CO, Federal Wage System (FWS) nonappropriated fund (NAF) wage area and redefine Arapahoe County, CO, from the area of application to the survey area. In addition, we propose to change the name of the Adams-Denver FWS NAF wage area to Arapahoe-Denver. These changes are necessary because the closure of Fitzsimons Army Medical Center in Adams County left the Adams-Denver survey area without a host activity to conduct local NAF wage surveys.

DATES: We must receive comments on or before September 21, 2005.

ADDRESSES: Send or deliver comments to Donald J. Winstead, Deputy Associate Director for Pay and Performance Policy, Strategic Human Resources Policy Division, Office of Personnel Management, Room 7H31, 1900 E Street, NW., Washington, DC 20415-8200; e-mail pay-performance-policy@opm.gov; or fax: (202) 606-4264.

FOR FURTHER INFORMATION CONTACT: Madeline Gonzalez, (202) 606-2838; e-mail pay-performance-policy@opm.gov; or fax: (202) 606-4264.

SUPPLEMENTARY INFORMATION: The Adams-Denver, CO, Federal Wage System (FWS) nonappropriated fund (NAF) wage area is presently composed of two survey area counties, Adams and Denver Counties, CO, and two area of application counties, Arapahoe and Mesa Counties, CO. The Department of Defense (DOD) requested that the Office of Personnel Management (OPM) remove Adams County from the wage area, redefine Arapahoe County as part of the survey area, and change the Adams-Denver wage area's name to Arapahoe-Denver. These changes are necessary because the closure of Fitzsimons Army Medical Center in Adams County left the Adams-Denver survey area without an activity having the capability to conduct a local wage survey.

The closure of Fitzsimons Army Medical Center left Adams County with no FWS NAF employment. Under 5 U.S.C. 5343(a)(1)(B)(i), NAF wage areas “shall not extend beyond the immediate locality in which the particular prevailing rate employees are employed.” Therefore, Adams County should not be defined as part of an NAF wage area.

Under 5 CFR 532.219, OPM may establish an NAF wage area when a minimum of 26 NAF wage employees are employed in a survey area, a local activity has the capability to host annual local wage surveys, and sufficient private employment exists within the survey area to provide adequate data for establishing an NAF wage schedule. While the remaining survey county, Denver County, has the overall population and private industry employment to support a survey, it does not have sufficient FWS NAF employment to qualify as a survey area or an activity with the capability to host annual local wage surveys. Therefore, Denver County cannot be defined as the sole survey county for the wage area.

After the closure of Fitzsimons Army Medical Center, the Army and Air Force Exchange Service (AAFES) Denver Exchange was relocated to Buckley Air Force Base (AFB) in Arapahoe County. There are 37 FWS NAF employees working in Arapahoe County, and Buckley AFB has the capability to conduct a local wage survey. DOD has requested that Arapahoe County be defined as part of the survey area. By adding Arapahoe County to the survey area, the wage area continues to meet OPM's regulatory criteria to be a separate NAF wage area. There are about 58 FWS NAF employees working in the survey area, and the area has a local activity, Buckley AFB, with the capability to conduct a local wage survey. Arapahoe and Denver Counties also meet the regulatory requirement of having a minimum of 1,800 private enterprise employees in establishments within the survey specifications. The name of the wage area would be Arapahoe-Denver, CO. The Arapahoe-Denver wage area would consist of two survey counties, Arapahoe and Denver Counties, CO, and one area of application county, Mesa County, CO.

These changes would be effective for the next full-scale wage survey in the Arapahoe-Denver wage area, which is scheduled to begin in January 2006.

The Federal Prevailing Rate Advisory Committee (FPRAC), the national labor-management committee that advises OPM on FWS pay matters, reviewed and recommended these changes by consensus.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

Office of Personnel Management.
Linda M. Springer,
Director.

Accordingly, the Office of Personnel Management proposes to amend 5 CFR part 532 as follows:

PART 532—PREVAILING RATE SYSTEMS

1. The authority citation for part 532 continues to read as follows:

Authority: 5 U.S.C. 5343, 5346; § 532.707 also issued under 5 U.S.C. 552.

2. In appendix D to subpart B, the wage area listing for the State of Colorado is amended by revising the listing for Adams-Denver to read as follows:

Appendix D to Subpart B of Part 532—Appropriated Fund Wage and Survey Areas

* * * * *

COLORADO

Arapahoe-Denver

Survey Area

Colorado:

Arapahoe

Denver

Area of Application. Survey area plus:

Colorado:

Mesa

* * * * *

[FR Doc. 05-16593 Filed 8-19-05; 8:45 am]

BILLING CODE 6325-39-P